SECURITIES AND EXCHANGE COMMISSION

China Shen Zhou Mining & Resources, Inc., Ideal Financial Solutions, Inc., Smooth Global (China) Holdings, Inc., Weikang Bio-Technology Group Co., Inc., and 1st Pacific Bancorp File No. 500-1

March 26, 2014.

Order of Suspension of Trading

It appears to the Securities and Exchange Commission that there is a lack of current and accurate information concerning the securities of China Shen Zhou Mining & Resources, Inc. because it has not filed any periodic reports since the period ended September 30, 2012.

It appears to the Securities and Exchange Commission that there is a lack of current and accurate information concerning the securities of Ideal Financial Solutions, Inc. because it has not filed any periodic reports since the period ended September 30, 2011.

It appears to the Securities and Exchange Commission that there is a lack of current and accurate information concerning the securities of Smooth Global (China) Holdings, Inc. because it has not filed any periodic reports since the period ended June 30, 2011.

It appears to the Securities and Exchange Commission that there is a lack of current and accurate information concerning the securities of Weikang Bio-Technology Group Co., Inc. because it has not filed any periodic reports since the period ended September 30, 2009.

It appears to the Securities and Exchange Commission that there is a lack of current and accurate information concerning the securities of 1st Pacific Bancorp because it has not filed any periodic reports since the period ended September 30, 2009.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on March 26, 2014, through 11:59 p.m. EDT on April 8, 2014.

By the Commission.
Jill M. Peterson,
Assistant Secretary.

[FR Doc. 2014-07055 Filed 3-26-14; 11:15 am]

BILLING CODE 8011-01-P